DEPARTMENT OF JUSTICE

National Institute of Corrections

Advisory Board; Notice of Closed Meeting

This notice announces a forthcoming closed meeting of the National Institute of Corrections (NIC) Advisory Board pursuant to the Federal Advisory Committee Act (FACA).

Name of the Committee: NIC Advisory Board.

General Function of the Committee: To aid the National Institute of Corrections in developing long-range plans, advise on program development, and recommend guidance to assist NIC's efforts in the areas of training, technical assistance, information services, and policy/program development assistance to Federal, State, and local corrections agencies.

Date and Time: Monday, April 22, 2024, from 1 p.m.-6 p.m. ET (approximate times).

Location: Virtual.

Contact Person: Leslie LeMaster, Designated Federal Official (DFO) to the NIC Advisory Board, The National Institute of Corrections, 320 First Street NW, Room 901-3, Washington, DC 20534. To contact Ms. LeMaster, please call (202) 305-5773 or llemaster@bop.gov.

Agenda: On April 22, 2024, the Advisory Board will convene a closed meeting to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the outcomes of continuing efforts to make recommendations to the Attorney General for the NIC Director vacancy.

Procedure: On April 22, 2024, the Advisory Board will convene a closed meeting to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the outcomes of continuing efforts to make recommendations to the Attorney General for the NIC Director vacancy.

Closed Committee Deliberations: On April 22, 2024, from 1 p.m.-6 p.m. ET (approximate times) the meeting will be closed to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the outcomes of continuing efforts to make recommendations to the Attorney General for the NIC Director vacancy.

General Information: The virtual meeting will be closed to the public to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the outcomes of continuing efforts to make recommendations to the Attorney General for the NIC Director vacancy.

Leslie LeMaster,
Designated Federal Official, National Institute of Corrections.

[FR Doc. 2024-07520 Filed 4-11-24; 8:45 am]

BILLING CODE P